DEPARTMENT OF HEALTH AND HUMAN SERVICES

Centers for Disease Control and Prevention

Announcement of an Opportunity for Manufacturers and Designers of Closed Circuit Escape Respirators To Participate in Performance Testing Within a Correlation Test Program Offered by the National Institute for Occupational Safety and Health

AGENCY: The National Institute for Occupational Safety and Health (NIOSH) of the Centers for Disease Control and Prevention (CDC), Department of Health and Human Services (HHS).

ACTION: Notice.

SUMMARY: The purpose of this notice is to announce a Correlation Test Program offered by NIOSH through its National Personal Protective Technology Laboratory (NPPTL) and provide information on how interested parties can obtain the Standard Test Procedures. The Correlation Test Program is the result of HHS publishing a final rule (http://www.gpo.gov/fdsys/pkg/FR-2012-03-08/pdf/2012-4691.pdf), Approval Tests and Standards for Closed-Circuit Escape Respirators (CCERs) on March 8th 2012. This final rule revised and updated the requirements for testing and certification of CCERs and introduced the use of an Automated Breathing and Metabolic Simulator to be used during testing as part of the approval process.

The Correlation Testing Program will consist of two tests:

• Performance Tests of As-Received and Environmentally Treated Closed-Circuit Respirators; and

• Capacity Tests of As-Received and Environmentally Treated Closed-Circuit Escape Respirators.

The Standard Test Procedures for the Correlation Testing Program, and for the other CCER performance requirements, are available from NIOSH for review. These procedures are subject to modification as they are incorporated into the certification program.

All correlation testing conducted in this program will be done free of charge. This program was designed to enable potential CCER applicants to correlate or calibrate their own automated breathing and metabolic simulator to the automated breathing and metabolic simulator that will be used by NPPTL as part of the CCER approval process.

NPPTL will not make any performance-related judgments as to the ability of any tested units meeting the new approval requirements. Data obtained from testing will be provided only to the applicant. Testing results may be provided to the public; however, product or applicant identity will not be disclosed. Test results from the Correlation Test Program are not applicable as pre-test data for a respirator approval application.

DATES: The CCER Correlation Test Program shall be in effect until November 15, 2012.

FOR FURTHER INFORMATION CONTACT: For additional information concerning the application requirements and process, Jeff Peterson, telephone (412) 386-4018, email JPeterson@cdc.gov. For information concerning details and copies of the Standard Test Procedures, Tim Rehak, telephone (412) 386-6866, email TRehak@cdc.gov.

Dated: May 9, 2012.
John Howard,
Director, National Institute for Occupational Safety and Health, Centers for Disease Control and Prevention.

[FR Doc. 2012-11694 Filed 5-14-12; 8:45 am]

BILLING CODE 4163-19-P